DEPARTMENT OF HOMELAND SECURITY

Federal Emergency Management Agency

[Docket ID FEMA-2011-0009]

Agency Information Collection Activities: Submission for OMB Review; Comment Request, OMB No. 1660-0039; FEMA Form 078-0-2A, National Fire Academy (NFA) Long-Term Evaluation Student/Trainee; FEMA Form 078-0-2, NFA Long-Term Evaluation Supervisors

AGENCY: Federal Emergency Management Agency, DHS.

ACTION: Notice; 30-day notice and request for comments; extension, without change, of a currently approved information collection; OMB No. 1660-0039; FEMA Form 078-0-2A (Presently FEMA Form 95-59), NFA Long-Term Evaluation Student/Trainee; FEMA Form 078-0-2 (Presently FEMA Form 95-58), NFA Long-Term Evaluation Supervisors.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 28, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: National Fire Academy Long-term Evaluation Form for Supervisors and National Fire Academy Long-term Evaluation Form for Students/Trainees.

Type of Information Collection: Extension, without change, of a currently approved information collection.

OMB Number: OMB No. 1660-0039.

Form Titles and Numbers: FEMA Form 078-0-2A, NFA Long-Term Evaluation Student/Trainee; FEMA Form 078-0-2, NFA Long-Term Evaluation Supervisors.

Abstract: The National Fire Academy Long-Term Evaluation Form will be used to evaluate all National Fire Academy (NFA) on-campus resident training courses. Course graduates and their supervisors will be asked to evaluate the impact of the training on both individual job performance and the fire and emergency response department/community where the student works. The data provided by students and supervisors is used to update existing NFA course materials and to develop new courses that reflect the emerging issues/needs of the Nation's fire service.

Affected Public: State, local or Tribal Government.

Estimated Number of Respondents: 4,500.

Frequency of Response: Once.

Estimated Average Hour Burden per Respondent: .16 burden hours.

Estimated Total Annual Burden Hours: 697.5 burden hours.

Estimated Cost: There are no annual start-up or capital costs.

Dated: June 22, 2011.
Lesia M. Banks,
Director, Records Management Division, Mission Support Bureau, Federal Emergency Management Agency, Department of Homeland Security.

[FR Doc. 2011-16122 Filed 6-27-11; 8:45 am]

BILLING CODE 9110-45-P